NUCLEAR REGULATORY COMMISSION

[NRC-2011-0204]

Proposed Generic Communication; Generic Letter on Seismic Risk Evaluations for Operating Reactors

AGENCY: Nuclear Regulatory Commission.

ACTION: Generic letter; withdrawal.

SUMMARY: The U.S. Nuclear Regulatory Commission (NRC) is withdrawing draft Generic Letter 2011-XX, “Seismic Risk Evaluations for Operating Reactors” published on September 1, 2011 (76 FR 54507). The draft Generic Letter, “Seismic Risk Evaluations for Operating Reactors,” regarding Generic Issue (GI)-199 is subsumed and entirely captured within the request for information letters addressing the Fukushima Near-Term Task Force Recommendations 2.1 and 2.3. The request for information letters were issued on March 12, 2012, and are available electronically in a package under Agencywide Documents Access and Management System (ADAMS) Accession Number ML12056A046. In addition, on March 13, 2012, the NRC issued a correction to the request for information letters, which is available electronically under ADAMS Accession Number ML12073A366.

DATES: This generic letter is withdrawn May 23, 2012.

ADDRESSES: Please refer to Docket ID NRC-2011-0204 when contacting the NRC about the availability of information regarding this document. You may access information related to this document, which the NRC possesses and is publicly available, using the following methods:

• Federal Rulemaking Web Site: Go to http://www.regulations.gov and search for Docket ID NRC-2011-0204. Address questions about NRC dockets to Carol Gallagher; telephone: 301-492-3668; email: Carol.Gallagher@nrc.gov.

• NRC's ADAMS: You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrea Russell, Division of Policy and Rulemaking, Office of Nuclear Reactor Regulation, U.S. Nuclear Regulatory Commission, Washington, DC 20555-0001; telephone: 301-415-8553, email: Andrea.Russell@nrc.gov.

SUPPLEMENTARY INFORMATION: On September 1, 2011 (76 FR 54507), the NRC published for public comment Draft Generic Letter 2011-XX, “Seismic Risk Evaluations for Operating Reactors,” to inform addressees ¹ that the NRC requests addressees to evaluate their facilities to determine the current level of seismic risk and to submit the requested information to facilitate the NRC's determination if there is a need for additional regulatory action. The public comment period was scheduled to expire on October, 31, 2011; however, on September 16, 2011 (76 FR 57767), the NRC issued a correction and extended the public comment period to November 15, 2011. On November 8, 2011 (76 FR 69294), the NRC extended the comment period to December 15, 2011. On March 8, 2012, the NRC issued a memorandum from the Office of Nuclear Reactor Regulation to the Office of New Reactors that (1) dispositioned the public comments received on the draft generic letter; and (2) stated that the GI-199 generic letter (i.e., the generic letter on seismic risk evaluations for operating reactors) is subsumed and entirely captured within the proposed Title 10 of the Code of Federal Regulations (10 CFR) 50.54(f) letter addressing the Fukushima Near-Term Task Force Recommendations 2.1 and 2.3. The memorandum is available electronically under ADAMS Accession Number ML12032A001.

¹ All holders of an operating license or construction permit for a nuclear power reactor issued under 10 CFR Part 50, “Domestic Licensing of Production and Utilization Facilities,” except those who have permanently ceased operation and have certified that fuel has been removed from the reactor vessel.

The NRC has now issued the 10 CFR 50.54(f) letter addressing the Fukushima Near-Term Task Force Recommendations 2.1 and 2.3 (ADAMS Accession Number ML12056A046), as corrected by ADAMS Accession Number ML12073A366. With the issuance of this letter, the Draft Generic Letter 2011-XX need not be finalized and issued. Accordingly, the NRC is withdrawing Draft Generic Letter 2011-XX.

Dated at Rockville, Maryland, this 14th day of May 2012.
For the Nuclear Regulatory Commission.
Kimyata Morgan-Butler,
Acting Chief, Generic Communications Branch, Division of Policy and Rulemaking, Office of Nuclear Reactor Regulation.

[FR Doc. 2012-12478 Filed 5-22-12; 8:45 am]

BILLING CODE 7590-01-P